DEPARTMENT OF COMMERCE

National Oceanic and Atmospheric Administration

Agency Information Collection Activities; Submission to the Office of Management and Budget (OMB) for Review and Approval; Comment Request; Southeast Region Permit Family of Forms

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on August 22, 2023 (88 FR 57103) during a 60-day comment period. This notice allows for an additional 30 days for public comments.

Agency: National Oceanic & Atmospheric Administration, Commerce.

Title: Southeast Region Permit Family of Forms.

OMB Control Number: 0648-0205.

Form Number(s): None.

Type of Request: Regular submission [revision and extension of a current information collection].

Number of Respondents: 9,883.

Average Hours per Response:

• Vessel EEZ Permit Application, including Golden Tilefish Endorsement and Smoothhound Shark Permit, 50 minutes;

• Wreckfish Permit Application, 55 minutes;

• Dealer Permit Application, 30 minutes;

• Aquacultured Live Rock Permitting and Reporting—New Permit—Deposit or Harvest Report, 15 minutes; Notice of Intent to Harvest, 10 minutes; Federal Permit Application, including Site Evaluation Report, 70 minutes;

• Aquacultured Live Rock Permitting and Reporting—Renew Permit—Deposit or Harvest Report, 15 minutes; Notice of Intent to Harvest, 10 minutes; Federal Permit Application, 50 minutes.

• Vessel Operator Card Application for Dolphin and Wahoo, or Rock Shrimp, 30 minutes;

• Fishing in Colombian Treaty Waters Vessel Permit Application, 50 minutes;

• Permit Holder Change of Information, 5 minutes;

• Gulf of Mexico Reef Fish Permit Consolidation, 5 minutes;

• Duplicate Permit, Card, or Decal, 5 minutes;

• Notifications of Lost or Stolen Traps or Authorization for Retrieval (golden crab, reef fish, snapper-grouper, spiny lobster), 10 minutes;

• Golden Crab Permittee Zone Transit Notification, 10 minutes;

• Annual Landings Report for Gulf of Mexico Shrimp, 20 minutes;

• Vessel Permit Transfers and Notarizations, 10 minutes; and

• International Maritime Organization (IMO) Number Registration, 30 minutes.

Total Annual Burden Hours: 7,033.

Needs and Uses: The National Marine Fisheries Service (NMFS), Southeast Regional Office (SERO), Permits Office administers Federal fishing permits in the U.S. exclusive economic zone (EEZ) of the Caribbean Sea, Gulf of Mexico (Gulf), and South Atlantic under the authority of the Magnuson-Stevens Fishery Conservation and Management Act (Magnuson-Stevens Act), 16 U.S.C. 1801. The SERO Permits Office proposes to extend and to revise parts of the current collections-of-information approved under OMB Control Number 0648-0205.

The NMFS Southeast Region manages the U.S. Federal fisheries in the Caribbean, Gulf, and South Atlantic under the fishery management plans (FMPs) for each region. The regional fishery management councils prepared the FMPs pursuant to the Magnuson-Stevens Act. The regulations implementing the FMPs, including those that have recordkeeping and reporting requirements, are located at 50 CFR part 622.

The recordkeeping and reporting requirements at 50 CFR part 622 form the basis for this collection of information. The NMFS Southeast Region requests information from fishery participants. This information, upon receipt, results in an increasingly more efficient and accurate database for management and monitoring of the Federal fisheries in the Caribbean, Gulf, and South Atlantic.

The SERO Permits Office proposes to extend and to revise the collection-of-information approved under OMB Control Number 0648-0205. NMFS proposes to revise the Federal permit applications for Vessels Fishing in the EEZ (Vessel EEZ), Change of Information Form, Vessel Fishing in the Colombian Treaty Waters, Duplicate Federal Fishery Permits, Operator Card or Decal, Aquacultured Live Rock (new permit), Aquacultured Live Rock (permit renewal), Harvest of Aquacultured Live Rock in the EEZ, Southeast Region Issued Operator Card, Consolidate Gulf of Mexico Reef Fish permits, Vessels Fishing for Wreckfish in the South Atlantic States (Wreckfish), and the Annual Dealer permit.

The proposed revisions to the specified application forms are administrative and would combine two socio-economic questions into one, along with making them optional instead of required. The revisions would also update the payment method of Floy tags. Instead of the permit holder sending a check to NMFS with the application, Floy Tag, Inc., will begin reaching out to the permit holder for payment once the permit is issued. NMFS estimates that the proposed revisions would not change the annual number of respondents or responses, or annual costs to affected permit applicants from estimates in the currently approved collection. Across the application forms, NMFS estimates these revisions would not increase the overall time burden.

The SERO Permits Office also proposes to modify the limited access permits by updating the form field name related to the selling price of the permit, along with removing the section related to the permit's selling price. NMFS does not anticipate these revisions will materially change the time burden to the applicants.

The SERO Permits Office also proposes to modify the Vessel EEZ application to include a checkbox and language related to the compliance of regulatory requirements. NMFS does not anticipate these revisions to the form will materially change the time burden to the applicants.

Affected Public: Businesses or other for-profit organizations, and individuals or households.

Frequency: Annual and periodic.

Respondent's Obligation: Mandatory.

Legal Authority: 16 U.S.C. 1801 et seq.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0205.

Sheleen Dumas,
Department PRA Clearance Officer, Office of the Under Secretary for Economic Affairs, Commerce Department.

[FR Doc. 2024-00977 Filed 1-18-24; 8:45 am]

BILLING CODE 3510-22-P